NEIGHBORHOOD REINVESTMENT CORPORATION

Neighborworks® America Regular Board of Directors Meeting; Sunshine Act

Time & Date: 12:30 p.m., Tuesday, October 28, 2008.

Place: 1325 G Street NW., Suite 800, Boardroom, Washington, DC 20005.

Status: Open.

Contact Person for More Information: Erica Hall, Assistant Corporate Secretary, (202) 220-2376; ehall@nw.org.

Agenda:

I. Call To Order.

II. Approval of the Minutes.

III. Summary Report of the Finance, Budget and Program Committee.

IV. Summary Report of the Audit Committee.

V. Summary Report of the Finance, Budget and Program Committee.

VI. Financial Report.

VII. Chief Executive Officer's Quarterly Management Report.

VIII. Adjournment.

Erica Hall,
Assistant Corporate Secretary.

[FR Doc. E8-25751 Filed 10-27-08; 8:45 am]

BILLING CODE 7570-02-P